DEPARTMENT OF HOMELAND SECURITY

Federal Emergency Management Agency

[Docket ID: FEMA-2019-0025; OMB No. 1660-0017]

Agency Information Collection Activities: Submission for OMB Review; Comment Request; Public Assistance Program

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before February 27, 2020.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Rachel Hildebrand, Process Improvement Section Chief, Public Assistance Program Delivery Branch, 202-646-3484.

SUPPLEMENTARY INFORMATION: This proposed information collection previously published in the Federal Register on November 14, 2019 at 84 FR 61922 with a 60 day public comment period. FEMA received one comment. The comment concerned the requirement for schools or educational facilities to provide proof of accreditation or certification requested on FEMA Form 009-0-49, Request for Public Assistance. While the specific citations in 44 CFR 206.221(a) are now out of date, the Elementary and Secondary Education Act of 1965 continues to have definitions for elementary school (20 U.S.C. 7801(19)) and secondary school (20 U.S.C. 7801(45)) that define such schools as providing elementary and secondary education “as determined under state law.” Government regulation of private schools is limited. In general, the U.S. Department of Education does not have authority to regulate private elementary and secondary schools or home schools. If any regulation is made, it is usually implemented at the State level and the extent of such regulation varies. For example, some States do not require accreditation, and FEMA cannot require formal accreditation where a State does not. However, FEMA may require that an applicant private nonprofit school demonstrate that it meets the required criteria for an educational institution and facility under the Public Assistance Program. This includes the requirement for a private nonprofit school to demonstrate that it meets the regulatory requirements of education “as determined under state law.” Likewise, the Higher Education Act of 1965 continues to have a definition of institution of higher education (20 U.S.C. 1001(a)) which has five criteria that are aligned with the criteria in Table 5 on page 132 of the Public Assistance Program and Policy Guide. FEMA continues to rely on the definitions in these two acts, and we do not believe that Congress, when they reorganized these acts, intended to eliminate FEMA's longstanding eligibility criteria.

The salary used to calculate the Estimated Total Annual Cost to the Federal Government has been updated to reflect the 2020 Salary Table.

The purpose of this notice is to notify the public that FEMA will submit the information collection abstracted below to the Office of Management and Budget for review and clearance.

Collection of Information

Title: Public Assistance Program.

Type of information collection: Revision of a currently approved collection.

OMB Number: 1660-0017.

Form Titles and Numbers: FEMA Form 009-0-49 Request for Public Assistance; FEMA Form 009-0-91 Project Worksheet (PW); FEMA Form 009-0-91A Project Worksheet (PW)—Damage Description and Scope of Work Continuation Sheet; FEMA Form 009-0-91B Project Worksheet (PW)—Cost Estimate Continuation Sheet; FEMA Form 009-0-91C Project Worksheet (PW)—Maps and Sketches Sheet; FEMA Form 009-0-91D Project Worksheet (PW)—Photo Sheet; FEMA Form 009-0-120 Special Considerations Questions; FEMA Form 009-0-121 PNP Facility Questionnaire; FEMA Form 009-0-123 Force Account Labor Summary Record; FEMA Form 009-0-124 Materials Summary Record; FEMA Form 009-0-125 Rented Equipment Summary Record; FEMA Form 009-0-126 Contract Work Summary Record; FEMA Form 009-0-127 Force Account Equipment Summary Record; FEMA Form 009-0-128 Applicant's Benefits Calculation Worksheet; FEMA Form 009-0-111, Quarterly Progress Reports; FEMA Form 009-0-141, FAC-TRAX System.

Abstract: The information collected is utilized by FEMA to make determinations for Public Assistance grants based on the information supplied by the respondents.

Affected Public: State, Local or Tribal government.

Estimated Number of Respondents: 1,012.

Estimated Number of Responses: 398,068.

Estimated Total Annual Burden Hours: 466,025.

Estimated Total Annual Respondent Cost: $29,601,921.

Estimated Respondents' Operation and Maintenance Costs: N/A.

Estimated Respondents' Capital and Start-Up Costs: N/A.

Estimated Total Annual Cost to the Federal Government: $1,920,626.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director, Information Management Division, Office of the Chief Administrative Officer, Mission Support, Federal Emergency Management Agency, Department of Homeland Security.

[FR Doc. 2020-01454 Filed 1-27-20; 8:45 am]

BILLING CODE 9111-23-P